DEPARTMENT OF TRANSPORTATION

Federal Aviation Administration

Notice of Intent To Rule on Application To Impose and Use a Passenger Facility Charge (PFC) at Imperial County Airport, Imperial, CA

AGENCY: Federal Aviation Administration (FAA), DOT.

ACTION: Notice of intent to rule on application.

SUMMARY: The FAA proposes to rule and invites public comment on the application to impose and use the revenue from a PFC at Imperial County Airport under the provisions of the Aviation Safety and Capacity Expansion Act of 1990 (Title IX of the Omnibus Budget Reconciliation Act of 1990) (Pub. L. 101-508) and part 158 of the Federal Aviation Regulations (14 CFR part 158).

DATES: Comments must be received on or before January 23, 2003.

ADDRESSES: Comments on this application may be mailed or delivered in triplicate to the FAA at the following address: Federal Aviation Administration, Airports Division, 15000 Aviation Blvd., Lawndale, CA 90261. In addition, one copy of any comments submitted to the FAA must be mailed or delivered to Mr. David Conn, Airport Manager, Imperial County, at the following address: 1099 Airport Road, Imperial CA 92251.

Air carriers and foreign air carriers may submit copies of written comments previously provided to the Imperial County under section 158.23 of part 158.

FOR FURTHER INFORMATION CONTACT: Eric Vermeeren, Airports Program Engineer, Airports Division, 15000 Aviation Blvd., Lawndale, CA 90261, Telephone: (310) 725-3631. The application may be reviewed in person at this same location.

SUPPLEMENTARY INFORMATION: The FAA proposes to rule and invites public comment on the application to impose and use the revenue from a PFC at Imperial County Airport under the provisions of the Aviation Safety and Capacity Expansion Act of 1990 (Title IX of the Omnibus Budget Reconciliation Act of 1990) (Pub. L. 101-508) and part 158 of the Federal Aviation Regulations (14 CFR part 158).

On November 8, 2002, the FAA determined that the application to impose and use the revenue from a PFC submitted by Imperial County was substantially complete within the requirements of section 158.25 of part 158. The FAA will approve or disapprove the application, in whole or in part, no later than February 7, 2003.

The following is a brief overview of the impose and use application No. 03-01-C-00-IPL:

Level of proposed PFC: $4.50.

Proposed charge effective date: January 1, 2003.

Proposed charge expiration date: October 1, 2011.

Total estimated PFC revenue: $892,742.

Brief description of the proposed projected: Rehabilitation Runway 14-32, Rehabilitate Runway 8-26, Rehabilitate an Construct Aprons, Rehabilitate Access and Parking Areas, Update Airport Master Plan, Rehabilitate Passenger Terminal Building, ARFF Vehicle Rehabilitation, Acquire Airport Sweeper, Acquire ADA Passenger Lift Device, Install Two (2) Gate Actuators, Airport Maintenance Building, and Airport Drainage and Erosion Protection.

Class of classes of air carriers which the public agency has requested not be required to collect PFCs: nonscheduled/on-demand air carriers filing FAA Form 1800-31.

Any person may inspect the application in person at the FAA office listed above under FOR FURTHER INFORMATION CONTACT and at the FAA Regional Airports Division located at: Federal Aviation Administration, Airports Division, 15000 Aviation Blvd., Lawndale, CA 90261. In addition, any person may, upon request, inspect the application, notice and other documents germane to the application in person at Imperial County, Department of Airports, Administration office.

Issued in Lawndale, California, on November 14, 2002.
Mia Paredes Ratcliff,
Acting Manager, Airports Division, Western-Pacific Region.

[FR Doc. 02-32413 Filed 12-23-02; 8:45 am]

BILLING CODE 4910-13-M